DEPARTMENT OF ENERGY

Federal Energy Regulatory Commission

[Docket No. RP00-372-000]

ANR Pipeline Company; Notice of Proposed Direct Bill

July 7, 2000.

Take notice that on June 30, 2000, ANR Pipeline Company (ANR) tendered for filing, pursuant to Section 4(e) of the Natural Gas Act (NGA), 15 U.S.C. § 717c(e), a plan for recovery of interest charges paid by ANR to Great Lakes Gas Transmission L.P. (Great Lakes) pursuant to the Federal Energy Regulatory Commission's letter order dated July 30, 1998. See Great Lakes Gas Transmission Limited Partnership, 84 FERC (CCH) ¶ 61,124 (1998). ANR proposes to direct bill its customers approximately $1.8 million.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before July 14, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-17708 Filed 7-12-00; 8:45 am]

BILLING CODE 3717-01-M.